DEPARTMENT OF LABOR

Mine Safety and Health Administration

Petitions for Modification of Application of Existing Mandatory Safety Standards

AGENCY: Mine Safety and Health Administration, Labor.

ACTION: Notice.

SUMMARY: This notice is a summary of petitions for modification submitted to the Mine Safety and Health Administration (MSHA) by the parties listed below.

DATES: All comments on the petitions must be received by MSHA's Office of Standards, Regulations, and Variances on or before June 21, 2017.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations, and Variances, 201 12th Street South, Suite 4E401, Arlington, Virginia 22202-5452, Attention: Sheila McConnell, Director, Office of Standards, Regulations, and Variances. Persons delivering documents are required to check in at the receptionist's desk in Suite 4E401. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations, and Variances at 202-693-9447 (Voice), barron.barbara@dol.gov (Email), or 202-693-9441 (Facsimile). [These are not toll-free numbers.]

SUPPLEMENTARY INFORMATION: Section 101(c) of the Federal Mine Safety and Health Act of 1977 and Title 30 of the Code of Federal Regulations Part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2017-001-M.

Petitioner: Solvay Chemicals, Inc., P.O. Box 1167, 400 County Road 85, Green River, Wyoming 82935.

Mine: Solvay Chemicals, Inc. Mine, MSHA I.D. No. 48-01295, located in Sweetwater County, Wyoming.

Regulation Affected: 30 CFR 57.22305 (Approved equipment (III mines)).

Modification Request: The petitioner requests a modification of the existing standard to permit the use of certain nonpermissible equipment for the purpose of mine surveying in or beyond the last open crosscut. The equipment would include the Leica MS60 surveying instrument for the purpose of mine engineering activities, namely daily sights, and entry measurements. The petitioner states that:

(1) Accurate surveys are a critical part of mine entry development to ensure mine entry locations are known in relation to any natural or man-made underground intrusions. Today's safety standards have vastly increased, in part from a cooperative effort of regulatory agencies and industry, and from best practices and improvements in mining methods and technology. Modern surveying instruments allow vastly improved accuracy when compared to older antiquated instruments.

(2) Determination of accurate mine working locations is vital operation of a mine and to Solvay Chemicals, Inc., and therefore is requesting relief from 30 CFR 57.22305 for the following reasons:

(a) The current Leica T-1 Theodolite is an antiquated instrument, with original manufactured date unknown, but thought to have been manufactured sometime between 1970 and 1994. The original vintage of this instrument was originally manufactured in 1933 as informed by the maintenance company that has been servicing this unit for Solvay Chemicals. The vendor has stated that this unit was discontinued in 1994, with parts becoming difficult to obtain while the original equipment manufacturer no longer supports this instrument.

(b) Solvay Chemicals proposes to implement new technology, a modern Leica MS60 survey instrument that will not affect miner safety through implementation of procedures prior to and during use of this instrument. The MS60 is housed in state-of- the-art sealed and dust-proof housing and is impervious to water, mine gas, and dust, with a rating of IP65, which includes a 1-hour water test. Immediately prior to the use of the nonpermissible equipment, the mine atmosphere will be tested for methane and will be continuously monitored with an approved instrument capable of providing both visual and audible alarms as defined in 30 CFR 57.22227. This additional methane monitoring further enhances the protection of employees in the area. Mine engineering qualified personnel will attend to the surveying equipment when used in or beyond the last open crosscut or in areas where methane may enter the air current. If 1.0 percent or more methane is detected, the procedures defined in 30 CFR 57.22234 will be followed.

(c) Increased accuracy and immediate error determination during use, immediately checks coordinates of fore-sight and back-sight and alerts operator. The instrument contains built in logic that checks the coordinates of all stations, essentially a “smart” instrument, comparing the known station coordinates and angles, to installed stations. This is an extremely important feature that reduces or eliminates human survey errors. For the following reasons, this is very important to today's mining:

—Known location of mine works with higher confidence level due to accuracy of new instrument, and ensuring boundary location with two neighboring adjacent mines or mining activity.

—All stations installed underground will have immediate coordinates established during installation, as the instrument stores information immediately. (At any time, known location of all mined entries should drilling, boreholes, etc., be required from surface need performed, no calculation is necessary with stations correlated to surface locations).

—Face advancement headings are ensured to be on-sights and the instrument notifies operator of inaccuracies. This eliminates the possible convergence of two production rooms and potential for rib falls from a too thin rib condition.

—Eliminates the potential in our longwall mine from an overall panel convergence or divergence of headgate and tailgate entries. This eliminates the risks and dangers associated from either removal or addition of a shield and face conveyor segment respectively as is the practice in mining when this condition occurs.

—Allows for accurate location of entries for mine construction activities such as overcast installation, conveyor belt installations, pipelines, doorways and fan installations. This will improve overall miner safety through elimination of additional work activities related to survey error from additional rib slabs and widening of entry when mined off sights.

(d) Improved accuracy of check surveys which are routinely conducted. This instrument is a one-second instrument compared to a three-second instrument in current use. Highest rated instruments are one-half second instruments that are not used underground with specific uses.

The petitioner further states that Solvay Chemicals is committed to safety and by submitting this application strives to apply the best technology in day-to-day engineering activities and adhere to the best professional practice. Advantageous use of this state-of-the-art surveying instrument is outlined in the rationale above. Miner safety is greatly enhanced due to the inherent design of this modern surveying equipment which is housed in state-of-the-art sealed and dust-proof housing, the procedure gas tests prior to and during use of the instrument, and the inherent benefits of this surveying instrument. The original equipment manufacturer has also provided approximately twenty-four hours of safety training, performed on the surface and in fresh air areas in the mine. Solvay Chemicals petitions the Mine Safety and Health Administration to review the best technology and respectively request approval of this petition, allowing use of modern state-of-the-art surveying instrument for day-to-day surveying at the Solvay Chemicals Mine.

The petitioner asserts that the proposed alternative method will at all times guarantee no less than the same measure of protection afforded by the existing standard.

Sheila McConnell,
Director, Office of Standards, Regulations, and Variances.

[FR Doc. 2017-10396 Filed 5-19-17; 8:45 am]

BILLING CODE 4520-43-P